DEPARTMENT OF ENERGY

Federal Energy Regulatory Commission

[Docket Nos. CP02-396-000 and PF01-1-000]

Greenbrier Pipeline Company, LLC; Notice of Availability of the Draft Environmental Impact Statement for the Proposed Greenbrier Pipeline Project

October 24, 2002.

The staff of the Federal Energy Regulatory Commission (FERC or Commission) has prepared this draft environmental impact statement (DEIS) on the natural gas pipeline facilities (the Greenbrier Pipeline Project) proposed by Greenbrier Pipeline Company, LLC (GPC) in the above-referenced dockets. The application and other supplemental filings in these dockets are available for viewing on the FERC Internet Web site (www.ferc.gov). Click on the “FERRIS” link, select “General Search,” then “Docket #” on the menu, and follow the instructions.

The DEIS was prepared to satisfy the requirements of the National Environmental Policy Act (NEPA). The staff concludes that approval of the proposed project with appropriate mitigating measures, as recommended, would result in some adverse environmental impacts. The DEIS evaluates alternatives to the proposal, including system alternatives, route alternatives, and route variations, and requests comments on them.

The purpose of the project is to create gas supply diversity and to meet a portion of the growing energy market in the South Atlantic region. The project would be designed to meet a variety of anticipated loads, including the growth of two local distribution companies, four natural gas-fired electric generation plants and a natural gas marketer. The project is fully subscribed and would transport up to 600,000 decatherms per day of natural gas.

The proposed pipeline would extend from east of Clendenin, Kanawha County, West Virginia through West Virginia, southwestern Virginia, and North Carolina to its terminus near Stem, in Granville County, North Carolina. It would consist of 275.6 miles of mainline and three laterals totaling 3.8 miles. GPC would also construct 2 compressor stations, 3 meter stations, 20 block valves, and appurtenant facilities, and use up to 212 access roads. Mainline DG-1 would extend from the proposed Elk River Compressor Station adjacent to Dominion Transmission, Inc.”s existing Cornwell Compressor Station to the proposed Public Service Company of North Carolina, a South Carolina Corporation's compressor station near Stem, North Carolina. DG-1 would include 20-, 24-, and 30-inch-diameter pipeline. Lateral DG-2 would consist of 1.0 mile of 12-inch-diameter pipeline that extends from DG-1 to the proposed Somerset Meter Station near Roxboro, North Carolina. Lateral DG-3 would consist of 2.1 miles of 10-inch-diameter pipeline that extends from the end of DG-1 to the proposed Mountain Creek Meter Station near Butner, North Carolina. Lateral DG-4 would consist of 0.7 mile of 30-inch-diameter pipeline that would interconnect the proposed Transco Meter Station and the proposed Eden Compressor Station in Rockingham County, North Carolina.

Comment Procedures and Public Meetings

Any person wishing to comment on the DEIS may do so. To ensure consideration prior to a Commission decision on the proposal, it is important that we receive your comments before the date specified below. Please carefully follow these instructions to ensure that your comments are received in time and properly recorded:

• Send one original and two copies of your comments to: Magalie R. Salas, Secretary, Federal Energy Regulatory Commission, 888 First St., NE, Room 1A, Washington, DC 20426.

• Label one copy of the comments for the attention of the Gas 2, PJ-11.2;

• Reference Docket No. CP02-396-000; and

• Mail your comments so that they will be received in Washington, DC on or before December 16, 2002.

Please note that we are continuing to experience delays in mail deliveries from the U.S. Postal Service. As a result, we will include all comments that we receive within a reasonable time frame in our environmental analysis of the project. Comments may be filed electronically via the Internet in lieu of paper. See 18 CFR 385.2001(a)(1)(iii) and the instructions on the Commission's Internet Web site (http://www.ferc.gov) under the “e-Filing” link and the links to the User's Guide. Before you can file comments, you will need to create an account, which can be created by clicking on “Login to File,” “New Account,” and then following the instructions. For help in “e-Filing” call (202) 502-8258.

We will announce in a future notice, the location and time of the local public meetings to receive comments on the DEIS.

After comments have been reviewed, any significant new issues will be investigated. When the DEIS has been modified as appropriate, the staff will publish and distribute a final environmental impact statement (FEIS). The FEIS will contain the staff's responses to timely comments filed on the DEIS.

Comments will be considered by the Commission but will not serve to make the commentor a party to the proceeding. Any person seeking to become a party to the proceeding must file a Motion to Intervene pursuant to Rule 214 of the Commission's Rules of Practice and Procedures (see 18 CFR 385.214). Anyone may intervene in this proceeding based on this DEIS. You must file your request to intervene as specified above.¹ You do not need intervenor status to have your comments considered.

¹ Interventions also may be filed electronically via the Internet in lieu of paper. See the previous discussion on filing comments electronically.

All intervenors, agencies, elected officials, local governments, Indian tribes, local libraries, media, and anyone providing written comments on the DEIS will receive a copy of the FEIS. If you do not wish to comment on the DEIS but wish to receive a copy of the FEIS, you must write to the Secretary of the Commission, indicating this request.

The DEIS has been placed in the public files of the FERC and is available for distribution and public inspection at: Federal Energy Regulatory Commission, Public Reference and Files Maintenance Branch, 888 First Street, NE, Room 2A, Washington, DC 20426, (202) 502-8371.

A limited number of copies are available from the Public Reference and Files Maintenance Branch identified above. In addition, copies of the DEIS have been mailed to Federal, state, and local government agencies; elected officials, environmental and public interest groups; affected landowners who requested a copy of the DEIS; Native American tribes that might attach religious and cultural significance to historic properties in the area of potential effect; local libraries and newspapers; and the Commission's list of parties to this proceeding. Additional information about the proposed project is available from the Commission's Office of External Affairs, at 1-866-208-FERC (3372) or on the FERC Internet Web site (www.ferc.gov), using the “FERRIS” link to information in this docket number. Click on the “FERRIS” link, select “General Search” from the menu, and follow the instructions. For assistance with access to FERRIS, the FERRIS help line can be reached at 1-866-208-3676, TTY (202) 502-8659. The FERRIS link on the FERC Internet Web site also provides access to the texts of formal documents issued by the Commission, such as orders, notices, and rulemakings.

Linwood A. Watson, Jr.,
Deputy Secretary.

[FR Doc. 02-27923 Filed 11-1-02; 8:45 am]

BILLING CODE 6717-01-P